DEPARTMENT OF ENERGY

Federal Energy Regulatory Commission

Combined Notice of Filings #1

Take notice that the Commission received the following electric rate filings:

Docket Numbers: ER10-2805-005; ER10-2600-006; ER10-2564-006; ER10-2289-006; EL16-37-000.

Applicants: Central Hudson Gas & Electric Corp., Tucson Electric Power Company, UNS Electric, Inc., UniSource Energy Development Company.

Description: Response to the February 22, 2016 Show Cause Order of Tucson Electric Power Company, et al.

Filed Date: 4/22/16.

Accession Number: 20160422-5110.

Comments Due: 5 p.m. ET 5/13/16.

Docket Numbers: ER10-3300-013.

Applicants: La Paloma Generating Company, LLC.

Description: Notice of Change in Status of La Paloma Generating Company, LLC.

Filed Date: 4/26/16.

Accession Number: 20160426-5332.

Comments Due: 5 p.m. ET 5/17/16.

Docket Numbers: ER15-1905-004.

Applicants: Amazon Energy LLC.

Description: Notice of Change in Status of Amazon Energy LLC.

Filed Date: 4/27/16.

Accession Number: 20160427-5156.

Comments Due: 5 p.m. ET 5/18/16.

Docket Numbers: ER16-651-000; ER16-652-000; ER16-653-000; ER16-654-000; ER16-655-000.

Applicants: Milo Wind Project, LLC, Roosevelt Wind Project, LLC, Slate Creek Wind Project, LLC, Spearville 3, LLC, Spinning Spur Wind LLC.

Description: Supplement to December 29, 2015 Milo Wind Project, LLC, et al. Triennial Filing, et al.

Filed Date: 4/26/16.

Accession Number: 20160426-5297.

Comments Due: 5 p.m. ET 5/17/16.

Docket Numbers: ER16-1218-001.

Applicants: BE CA LLC.

Description: Tariff Amendment: Supplement to Notice of Market-Based Rate Schedule Revisions to be effective 5/17/2016.

Filed Date: 4/27/16.

Accession Number: 20160427-5196.

Comments Due: 5 p.m. ET 5/18/16.

Docket Numbers: ER16-1219-001.

Applicants: J.P. Morgan Ventures Energy Corporation.

Description: Tariff Amendment: Supplement to Notice of Market-Based Rate Schedule Revisions to be effective 5/17/2016.

Filed Date: 4/27/16.

Accession Number: 20160427-5198.

Comments Due: 5 p.m. ET 5/18/16.

Docket Numbers: ER16-1220-001.

Applicants: Utility Contract Funding, L.L.C.

Description: Tariff Amendment: Supplement to Notice of Market-Based Rate Schedule Revisions to be effective 5/17/2016.

Filed Date: 4/27/16.

Accession Number: 20160427-5200.

Comments Due: 5 p.m. ET 5/18/16.

Docket Numbers: ER16-1502-000.

Applicants: Southwest Power Pool, Inc.

Description: Section 205(d) Rate Filing: 3194 Prairie Breeze Wind Energy GIA; Cancellation of 2221R1 to be effective 3/29/2016.

Filed Date: 4/27/16.

Accession Number: 20160427-5059.

Comments Due: 5 p.m. ET 5/18/16.

Docket Numbers: ER16-1503-000.

Applicants: Public Service Company of New Mexico.

Description: Notice of Cancellation of Public Service Company of New Mexico of Network Integration Transmission Service and related Network Operating Agreement (No. 254-PNM).

Filed Date: 4/26/16.

Accession Number: 20160426-5315.

Comments Due: 5 p.m. ET 5/17/16.

Docket Numbers: ER16-1504-000.

Applicants: Oregon Clean Energy, LLC.

Description: Petition for Waiver and Request for Expedited Action of Oregon Clean Energy, LLC.

Filed Date: 4/26/16.

Accession Number: 20160426-5331.

Comments Due: 5 p.m. ET 5/3/16.

Docket Numbers: ER16-1505-000.

Applicants: Midcontinent Independent System Operator, Inc.

Description: Section 205(d) Rate Filing: 2016-04-27 Ramp Product Posting Filing to be effective 5/1/2016.

Filed Date: 4/27/16.

Accession Number: 20160427-5245.

Comments Due: 5 p.m. ET 5/18/16.

Docket Numbers: ER16-1506-000.

Applicants: Nevada Power Company.

Description: Section 205(d) Rate Filing: OATT Attachment G Revision Network Operating Agreement to be effective 6/28/2016.

Filed Date: 4/27/16.

Accession Number: 20160427-5246.

Comments Due: 5 p.m. ET 5/18/16.

Docket Numbers: ER16-1507-000.

Applicants: Idaho Power Company.

Description: Section 205(d) Rate Filing: IPC-PAC JOOA—True-up Changes and Correction of Clerical Errors to be effective 10/30/2015.

Filed Date: 4/27/16.

Accession Number: 20160427-5251.

Comments Due: 5 p.m. ET 5/18/16.

Docket Numbers: ER16-1508-000.

Applicants: Southern California Edison Company.

Description: Section 205(d) Rate Filing: 2016 Revised Added Facilities Rate under WDAT—Filing No. 10 to be effective 1/1/2016.

Filed Date: 4/27/16.

Accession Number: 20160427-5254.

Comments Due: 5 p.m. ET 5/18/16.

Take notice that the Commission received the following electric securities filings:

Docket Numbers: ES16-29-000.

Applicants: DTE Electric Company.

Description: Application for Authorization to Issue Securities and Request for Exemption from Competitive bidding Requirement of DTE Electric Company.

Filed Date: 4/26/16.

Accession Number: 20160426-5268.

Comments Due: 5 p.m. ET 5/17/16.

Take notice that the Commission received the following PURPA 210(m)(3) filings:

Docket Numbers: QM16-1-000.

Applicants: Nebraska Public Power District.

Description: Response to April 19, 2016 Deficiency Letter on behalf of the Nebraska Public Power District.

Filed Date: 4/26/16.

Accession Number: 20160426-5311.

Comments Due: 5 p.m. ET 5/24/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 27, 2016.
Kimberly D. Bose,
Secretary.

[FR Doc. 2016-10315 Filed 5-2-16; 8:45 am]

BILLING CODE 6717-01-P